DEPARTMENT OF THE INTERIOR

Bureau of Land Management

[CO-933-01-1320-EL; COC 62920]

Notice of Coal Lease Offering by Sealed Bid; COC 62920

AGENCY: Bureau of Land Management, Interior.

ACTION: Notice of competitive coal lease sale.

SUMMARY: Bureau of Land Management, Colorado State Office, Lakewood, Colorado, hereby gives notice that certain coal resources in the lands hereinafter described in La Plata County, Colorado, will be offered for competitive lease by sealed bid in accordance with the provisions of the Mineral Leasing Act of 1920, as amended (30 U.S.C. 181 et seq.).

DATES: The lease sale will be held at 11 a.m., Tuesday, September 11, 2001. Sealed bids must be submitted no later than 10 a.m., Tuesday, September 11, 2001.

ADDRESSES: The lease sale will be held in the Conference Room, Fourth Floor, Colorado State Office, 2850 Youngfield Street, Lakewood, Colorado. Sealed bids must be submitted to the Cashier, Colorado State Office, 2850 Youngfield Street, Lakewood, Colorado 80215.

FOR FURTHER INFORMATION CONTACT: Karen Purvis at 303-239-3795.

SUPPLEMENTARY INFORMATION: The tract will be leased to the qualified bidder submitting the highest offer, provided that the high bid meets the fair market value determination of the coal resource. The minimum bid for this tract is $100 per acre or fraction thereof. No bid less than $100 per acre or fraction thereof will be considered. The minimum bid is not intended to represent fair market value.

Sealed bids received after the time specified above will not be considered.

In the event identical high sealed bids are received, the tying high bidders will be requested to submit follow-up bids until a high bid is received. All tie-breaking sealed bids must be submitted within 15 minutes following the Sale Official's announcement at the sale that identical high bids have been received.

Fair market value will be determined by the authorized officer after the sale.

Coal Offered: The coal resource to be offered is limited to coal recoverable by underground mining methods on the East Alkali Tract in the following lands:

T. 35 N., R. 11 W., N.M.P.M.

Sec. 19, lots 4, 5, E½SW¼, and SE¼.

T. 35 N., R. 12 W., N.M.P.M.

Sec. 24, lots 1, 2, and SW¼SE¼;

Sec. 25, lots 1, 2, W½NE¼, and W½;

Sec. 26, SE¼NE¼, E½SE¼, and SW¼SE¼;

Sec. 35, NE¼, and N½SE¼.

containing 1,304.51 acres.

Total recoverable reserves are estimated to be 7,049,000 tons. The underground minable coal is ranked as high volatile B bituminous coal. The estimated coal quality on an as-received basis is as follows:

Btu: 12,769 Btu/lb.

Moisture: 5.60%

Sulfur Content: 0.68%

Ash Content: 7.78%

Rental and Royalty: The lease issued as a result of this offering will provide for payment of an annual rental of $3.00 per acre or fraction thereof and a royalty payable to the United States of 8 percent of the value of coal mined by underground methods. The value of the coal will be determined in accordance with 30 CFR 206.

Notice of Availability: Bidding instructions for the offered tract are included in the Detailed Statement of Coal Lease Sale. Copies of the statement and the proposed coal lease are available upon request in person or by mail from the Colorado State Office at the address given above. The case file is available for inspection in the Public Room, Colorado State Office, during normal business hours at the address given above.

July 25, 2001.
Karen A. Purvis,
Solid Minerals Staff, Resource Services.

[FR Doc. 01-19671 Filed 8-6-01; 8:45 am]

BILLING CODE 4310-JB-P